DEPARTMENT OF STATE

22 CFR Part 22

[Public Notice 4160]

Schedule of Fees for Consular Services, Department of State and Overseas Embassies and Consulates

AGENCY: Department of State.

ACTION: Interim final rule; request for comments.

SUMMARY: This rule amends the Schedule of Fees for Consular Services. Specifically, it raises from $65 to $100 the fee charged for the processing of an application for a nonimmigrant visa (MRV) or a combined nonimmigrant visa and border crossing card (BCC). The Department of State is raising the fee as an emergency measure to ensure that sufficient resources are available to meet the costs of processing nonimmigrant visas, the demand for which has dropped at the same time that the processing of nonimmigrant visa applications has become more labor intensive because of the increased security screening of visa applicants in the aftermath of the September 11, 2001 attacks on New York and Washington and in Pennsylvania. This rule further corrects the item listed as the “border crossing card” for minors under age 15 by deleting reference to a 5-year period of validity.

DATES: Effective date: This interim rule is effective on November 1, 2002.

Comment period: The Department of State will accept written comments from interested persons up to November 8, 2002.

ADDRESSES: Written comments may be submitted to the Office of the Executive Director, Bureau of Consular Affairs, U.S. Department of State, Suite H1004, 2401 E Street NW., Washington, DC 20520, or by e-mail to fees@state.gov.

FOR FURTHER INFORMATION CONTACT: Susan Abeyta, Office of the Executive Director, Bureau of Consular Affairs, Department of State; phone: 202-663-2505, telefax: 202-663-2499; e-mail: fees@state.gov.

SUPPLEMENTARY INFORMATION:

Background

What Is the Authority for This Action?

The majority of the Department of State's consular fees are established pursuant to the general user charges statute, 31 U.S.C. 9701 (which directs that certain government services be self-sustaining to the extent possible), and/or U.S.C. 4219, which as implemented through Executive Order 10718 of June 27, 1957, authorizes the Secretary of State to establish fees to be charged for official services provided by U.S. embassies and consulates. In addition, a number of statutes address specific fees. A cost-based, nonimmigrant visa processing fee for the machine readable visa (MRV) and for a combined border crossing and nonimmigrant visa card (BCC) (22 CFR 41.32) is authorized by section 140(a) of the Foreign Relations Authorization Act, Fiscal Years 1994 and 1995, Public Law 103-236 (April 30, 1994), as amended. In addition, aliens under 15 are in certain circumstances entitled to a combined MRV/BCC for a statutorily established fee of $13, which is below the full cost of service, pursuant to section 410 of title III of the Commerce, Justice, State Appropriations Act enacted as part of the Omnibus FY 1999 Appropriations Act, Public Law 105-277 (Oct. 21, 1998). Various statutes permit the Department to retain some of the consular fees it collects, including the MRV and MRV/BCC fees. Section 103 of the Enhanced Border Security and Visa Entry Reform Act of 2002, Public Law 107-173 (May 14, 2002), amended section 140(a) of Public Law 103-235 (which authorizes the MRV fee) to permit the Department to retain all MRV fees until they are expended.

Consistent with OMB Circular A-25 guidelines, the Department conducted a cost-of-service study from September 1999 to October 2001 to update the Schedule of Fees for Consular Services. The results of that study were the foundation of the current Schedule, which was published as a final rule on May 16, 2002, at Volume 67, No. 95 FR 34831. The Schedule went into effect on June 1, 2002.

Why Is the Department Raising the MRV and BCC Application Processing Fee to $100 at This Time?

The $65 MRV/BCC fee that went into effect on June 1, 2002 was based on worldwide nonimmigrant visa operations' total costs distributed over an anticipated applicant level of approximately 10.5 million per year. It is now clear, however, that the estimate of the number of nonimmigrant visa applicants was too high. Visa demand worldwide has dropped by approximately 19.6% overall for the current fiscal year, which has been affected by international economic conditions and the events of September 11, 2001. The trend is continuing downward: nonimmigrant visa demand was down 26% during the normally peak season of June 1 to August 31. In August 2002, visa demand was down 32.9%. There has been no corresponding decline in the Department's costs of administering nonimmigrant visa services; such costs have remained the same in part because the processing of each application has become more time consuming and labor intensive as a result of enhanced security screening requirements for applicants instituted since September 11, 2001. Thus, the Department is facing a critical revenue shortfall because its nonimmigrant visa application processing costs can no longer be recovered by MRV revenues generated by the MRV fee when set at $65. Taking the 2001 Cost of Service Study's figures as a baseline, but now distributing the costs of nonimmigrant visa application processing services over a smaller number of applicants, based on the smaller number of applicants that the Department has seen in the current fiscal year, the Department has determined that an MRV fee of $100 will be required to recover the full cost of processing nonimmigrant visa applications during the anticipated period of the current Schedule of Fees. Given the uncertainty with respect to when the applicant volume will recover, it is reasonable and appropriate to raise the fee now. Failing to do so could jeopardize the Department's ability to continue critical programs, including enhanced border security measures recently undertaken.

Regulatory Findings

Administrative Procedure Act

The Department is publishing this rule as an interim rule, with a provision for post-promulgation comments, based on the “good cause” exceptions set forth at 5 U.S.C. 553(b)(3)(B) and 553(d)(3). The rule will not take effect, however, until November 1, 2002. Publishing the rule in this way, with a post-promulgation opportunity for comment, will allow the Department to make the rule effective at the earliest reasonable opportunity. Allowing a full 30-day comment period followed by a publication of the final rule with a further 30 days before its effective date is not practicable or in the public interest. That process would delay imposition of the new fee notwithstanding the critical need for the Department to recover its costs and to have sufficient resources to conduct activities that are dependent on MRV fee revenues, including the enhanced security screening of visa applicants and other measures being taken in the aftermath of the September 11, 2001 terrorist attacks on the United States. By setting the new fee through an interim final rule, the Department will have sufficient time to make necessary provisions to implement the new fee as early in Fiscal Year 2003 as is feasible. Comments received before the end of the comment period will be addressed in a subsequent final rule.

Regulatory Flexibility Act

The Department of State, in accordance with the Regulatory Flexibility Act (5 U.S.C. 605(b)), has reviewed this regulation and, by approving it, certifies that this rule will not have a significant economic impact on a substantial number of small entities.

Unfunded Mandates Act of 1995

This rule will not result in the expenditure by State, local and tribal governments, in the aggregate, or by the private sector, of $1 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign based companies in domestic and import markets.

Executive Order 12866

The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in that Executive Order.

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements. It will affect OMB collection number 1405—by increasing the public cost burden.

List of Subjects in 22 CFR Part 22

Consular services, Fees, Passports and visas.

Accordingly, 22 CFR part 22 is amended as follows:

PART 22—[AMENDED]

1. The authority citation for part 22 continues to read as follows:

Authority: 8 U.S.C. 1153 note, 1351, 1351 note; 10 U.S.C. 2602 (c); 22 U.S.C. 214, 2504(a), 4201, 4206, 4215, 4219; 31 U.S.C. 9701; Pub. L. 105-277, 112 Stat. 2681 et seq.; E.O. 10718, 22 FR 4632, 3 CFR, 1954-1958 Comp., p. 382; E.O. 11295, 31 FR 10603, 3 CFR, 1966-1970 Comp., p. 570.

2. Section 22.1 is amended by revising item No. 21(a), (b), and (c), to read as follows:

§ 22.1 Schedule of fees.

Item No. | Fee
* * * * * * *
21. Nonimmigrant visa application and border crossing card processing fees (per person):
(a) Nonimmigrant visa [21-MRV Processing] | $100
(b) Border crossing card—10 year (age 15 and over) [22-BCC 10 Year] | 100
(c) Border crossing card—(under age 15). For Mexican citizen if parent has or is applying for a border crossing card (23-BCC Child) | 13
* * * * * * *

Dated: September 27, 2002.
Grant S. Green, Jr.,
Under Secretary of State for Management, Department of State.

[FR Doc. 02-25692 Filed 10-4-02; 2:59 pm]

BILLING CODE 4710-06-P